DEPARTMENT OF VETERANS AFFAIRS

MyVA Advisory Committee; Notice of Establishment

As required by Section 9(a)(2) of the Federal Advisory Committee Act, the Department of Veterans Affairs hereby gives notice of the establishment of the Department of Veterans Affairs (VA) MyVA Advisory Committee. The Secretary of Veterans Affairs has determined that establishing the Committee is both necessary and in the public interest.

The Committee will advise the Secretary and the Executive Director, MyVA Task Force on matters affecting the MyVA initiative and VA's ability to:

• Rebuild Trust with Veterans and other Stakeholders

• Improve Service Delivery, Focusing on Veteran Outcomes

• Set the Course for Longer-term Excellence and Reform

The Secretary has determined that these functions cannot be performed by VA, an existing committee, or other through other means.

Committee members will be appointed by the Secretary's authorized designee and will be drawn from various venues and organization types such as Veteran-focused organizations, health sciences and academic communities, organizational leadership and change management groups, State/Local/Tribal Governments, health care administrators and leaders of key stakeholder associations and organizations. Additionally, two individuals will be recommended as ex-officio members.

Any member of the public seeking additional information should contact Sharon Stevens (40A1), Department of Veterans Affairs, 810 Vermont Avenue NW., Washington, District of Columbia, or email at Sharon.Stevens@va.gov; or via phone at (202) 461-6013.

Dated: December 12, 2014.
Rebecca Schiller,
Federal Advisory Committee Management Officer.

[FR Doc. 2014-29551 Filed 12-16-14; 8:45 am]

BILLING CODE 8310-01-P